DEPARTMENT OF HOUSING AND URBAN DEVELOPMENT

[Docket No. FR-6001-N-08]

60-Day Notice of Proposed Information Collection: Section 8 Renewal Policy Guide

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 10, 2017.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION, CONTACT: Katherine Nzive, Director, Program Administration Division, Office of Asset Management and Portfolio Oversight, Department of Housing and Urban Development, 451 7th Street SW., Washington, DC 20410; email Katherine Nzive at Katherine A. Nzive@hud.gov or telephone 202.402.3440. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Section 8 Renewal Policy Guide.

OMB Approval Number: 2502-0587.

Type of Request: Extension of currently approved collection

Form Numbers:

Contract Renewal Request Form (HUD-9624)

OCAF Rent Adjustment Worksheet (HUD-9625)

Letters to Owner-Agents (Options 1 and 3) (Auto OCAF Letters) (HUD-9626)

Letters to Owner-Agents (Options 2 and 4) (Auto OCAF Letters) (HUD-9627)

Request to Renew Using Non-Section 8 Units in the Section 8 Project as a Market Rent Ceiling (HUD-9629)

Request to Renew Using FMR's as Market Ceiling (HUD-9630)

One Year Notification Owner Does Not Intend To Renew (HUD-9631)

One Year Notification Letter Owner Intends To Renew (HUD-9632)

Use Agreement (HUD-9634)

Projects Preparing a Budget-Based Rent Increase (HUD-9635)

Basic Renewal Contract—One Year Term (HUD-9636)

Basic Renewal Contract—Multi-Year Term (HUD-9637)

Renewal Contract for Mark-Up-To-Market Project (HUD-9640)

Housing Assistance Payments Preservation Renewal Contract (HUD-9639)

Interim (Full) Mark-To-Market Renewal Contract (HUD-9640)

Interim (Lite) Mark-To-Market Renewal Contract (HUD-9641)

Full Mark-To-Market Renewal Contract (HUD-9642)

Watch List Renewal Contract (HUD-9643)

Project Based Assistance Payments Amendment Contract Moderate Rehabilitation (HUD-9644)

Project Based Section Housing Assistance Payments Extension of Renewal Contract (HUD-9646)

Consent to Assignment of HAP Contract as Security for Freddie Mac Financing (HUD-9648A)

Consent to Assignment of HAP Contract as Security for FNMA Credit Enhancement (HUD-9648D)

Consent to Assignment of HAP Contract as Security for Financing (HUD-9649)

Consent to Assignment of HAP Contract as Security for FNMA Financing (HUD-9651)

Addendum to Renewal Contract under Option One or Option Two for Capital Repairs and/or Acquisition Costs (HUD-93181)

Addendum to Renewal Contract under Option One or Option Two for Capital Repairs and/or Acquisition—Post- Rehabilitation Rents at Closing (HUD-93182)

Rider to Original Section 8 Housing Assistance Payments Contract (HUD-93184)

Description of the need for the information and proposed use: The modifications of the Section 8 renewal policy and recent legislation are implemented to address the essential requirement to preserving low income rental housing affordability and availability. The Section 8 Renewal Policy Guide will include recent legislation modifications for renewing of expiring Section 8 policy(ies) Guidebook, as authorized by the 24 CFR part 401 and 24 CFR part 402. The Multifamily Housing Reform and Affordability Act of 1997 (MAHRA) for fiscal year 1998 (Pub. L. 105-65, enacted on October 27, 1997), required that expiring Section 8 project-based assistance contracts be renewed under MAHRA. Established in the MAHRA policies renewal of Section 8 project-based contracts rent are based on market rents instead of the Fair Market Rent (FMR) standard.

MAHRA renewals submission should include a Rent Comparability Study (RCS). If the RCS indicated rents were at or below comparable market rents, the contract was renewed at current rents adjusted by Operating Cost Adjustment Factor (OCAF), unless the Owner submitted documentation justifying a budget-based rent increase or participation in Mark-Up-To-Market. The case is that no renewal rents could exceed comparable market rents. If the RCS indicated rents were above comparable market rents, the contract was referred to the Office of Affordable Housing Preservation (OAHP) for debt restructuring and/or rent reduction.

The Preserving Affordable Housing for Senior Citizens and Families Into the 21st Century Act of 1999 (public law 106-74, enacted on October 20, 1999), modified MAHRA.

The Section 8 Renewal Policy Guide sets forth six renewal options from which a project owner may choose when renewing their expiring Section 8 contract: Option One—Mark-Up-To-Market, Option Two—Other Contract Renewal with Current Rents at or Below Comparable Market Rents, Option Three—Referral to the Office of Affordable Preservation (OAHP), Option Four- Renewal of Projects Exempted From OMHAR, Option Five—Renewal of Portfolio Reengineering Demonstration or Preservation Projects, and Option Six—Opt Outs. Owners should select one of six options which are applicable to their project and should submit contract renewal on an annual basis to renew contract.

The Section 8 Renewal Guide sets forth six renewal options from which a project owner may choose when renewing their expiring Section 8 contracts.

Option One (Mark-Up-To-Market)

Option Two (Other Contract Renewals with Current Rents at or Below Comparable Market Rents Option Three (Referral to the Office of Multifamily Housing Assistant Restructuring—OHAP) Option Four (Renewal of Projects Exempted from OHAP)

Option Five (Renewal of Portfolio Reengineering Demonstration or Preservation Projects)

Option Six (Opt-Outs)

Respondents: Business or other for profit and non profit.

Estimated Number of Respondents: 25,439.

Estimated Number of Responses: 25,439.

Frequency of Response: On occasion.

Average Hours per Response: 1 hour.

Total Estimated Burden: 24,680.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: May 4, 2017.
Genger Charles,
General Deputy Assistant Secretary for Housing.

[FR Doc. 2017-09507 Filed 5-10-17; 8:45 am]

BILLING CODE 4210-67-P